Title 3—

The President

Proclamation 7695 of August 26, 2003

Women's Equality Day, 2003

By the President of the United States of America

A Proclamation

The 19th Amendment to the Constitution, ratified on August 26, 1920, guaranteed the right to vote for American women. Women's Equality Day commemorates this constitutional amendment and is an opportunity for citizens across our country to honor those who took part in the long and difficult struggle for women's suffrage, as well those since 1920 who have continued to fight for equal rights for women.

Beginning with the Seneca Falls Convention in 1848, women's suffrage supporters lectured, wrote, marched, and lobbied for enfranchisement of American women. Susan B. Anthony, Elizabeth Cady Stanton, and Lucretia Mott led this movement and advocated an amendment to the Constitution that would guarantee women the right to vote. Through their vision and dedication, these women advanced the fight for equal rights.

Today, American women are making a difference in their communities and workplaces. Women's accomplishments in education, business, science, art, medicine, athletics, and every other field have made America better and stronger. The courage and determination of American women are exemplified in the personnel serving in our Armed Forces. Women across America are also helping to secure our country by serving as police officers, firefighters, doctors, nurses, paramedics, and first-responders.

Americans believe in opportunity for all and on this day, we honor the achievements of women who have charted the path to equal opportunity.

NOW, THEREFORE, I, GEORGE W. BUSH, President of the United States of America, by virtue of the authority vested in me by the Constitution and laws of the United States, do hereby proclaim August 26, 2003, as Women's Equality Day. I call upon the people of the United States to observe this day with appropriate programs and activities.

IN WITNESS WHEREOF, I have hereunto set my hand this twenty-sixth day of August, in the year of our Lord two thousand three, and of the Independence of the United States of America the two hundred and twenty-eighth.

B

[FR Doc. 03-22244

Filed 8-27-03; 8:45 am]

Billing code 3195-01-P